ENVIRONMENTAL PROTECTION AGENCY

40 CFR Part 52

[EPA-R05-OAR-2006-0046; FRL-8464-3]

Determination of Attainment, Approval and Promulgation of Implementation Plans and Designation of Areas for Air Quality Planning Purposes; Ohio; Correction

AGENCY: Environmental Protection Agency (EPA).

ACTION: Final rule; correcting amendment.

SUMMARY: This document corrects an error pertaining to the Motor Vehicle Emissions Budgets (MVEBs) for Belmont County, Ohio (Wheeling, WV-OH). The 2009 MVEB for oxides of nitrogen (NOX) from the proposed rule was incorrect in the final action. This final rule corrects that error.

DATES: Effective Date: This final rule is effective on September 10, 2007.

FOR FURTHER INFORMATION CONTACT: Steve Marquardt, Environmental Engineer, Criteria Pollutant Section, Air Programs Branch (AR-18J), Environmental Protection Agency, Region 5, 77 West Jackson Boulevard, Chicago, Illinois 60604, (312) 353-3214, marquardt.steve@epa.gov.

SUPPLEMENTARY INFORMATION: EPA published four notices of final rulemaking to redesignate Washington County (Parkersburg-Marietta, WV-OH), Jefferson County (Steubenville-Weirton, WV-OH), Belmont County (Wheeling, WV-OH), Stark County (Canton, OH) and Allen County (Lima, OH) areas to attainment for the 8-hour ozone standard. For each of these counties EPA had proposed approval of the 2009 and 2018 MVEBs. In each of the final rulemaking notices, EPA omitted the 2009 MVEBs from the final rules. A correction was made to add these 2009 MVEBs. When this correction was made there was an error in the 2009 MVEB for NOX for Belmont County, Ohio. This error is corrected in this action.

Correction

For Belmont County, Ohio, in the correction notice published in the Federal Register on July 5, 2007 (72 FR 36599), on page 36599 in the third column, second full paragraph: “In addition, and supported by and consistent with the ozone maintenance plan, EPA is approving the 2018 VOC and NOX MVEBs for transportation conformity purposes. The 2018 MVEBs * * *.” is to read: “In addition, and supported by and consistent with the ozone maintenance plan, EPA is approving the 2009 and 2018 VOC and NOX MVEBs for transportation conformity purposes. For Belmont County, Ohio, the 2009 MVEBs are 2.60 tons per day of VOC and 4.69 tons per day of NOX and the 2018 MVEBs are 1.52 tons per day of VOC and 1.91 tons per day of NOX. West Virginia develops MVEBs for its portion of the area.”

EPA is revising 40 CFR Section 52.1885(ff)(2) to reflect this corrected 2009 MVEB for NOX for Belmont County, Ohio.

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an error in a previous action. Thus, notice and public procedure are unnecessary. We find that this constitutes good cause under 5 U.S.C. 553(b)(B).

Statutory and Executive Order Reviews

Under Executive Order (E.O.) 12866 (58 FR 51735, October 4, 1993), this action is not a “significant regulatory action” and is, therefore, not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the SUPPLEMENTARY INFORMATION section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the National Government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure are impracticable, unnecessary or contrary to the public interest. This determination must be supported by a brief statement. 5 U.S.C. 808(2). As stated previously, EPA had made such a good cause finding, including the reasons therefore, and established an effective date of September 10, 2007. EPA will submit a report containing this rule and other required information to the U.S. Senate, the U.S. House of Representatives, and the Comptroller General of the United States prior to publication of the rule in the Federal Register. This correction to 40 CFR part 52 for Ohio is not a “major rule” as defined by 5 U.S.C. 804(2).

List of Subjects in 40 CFR Part 52

Environmental protection, Air pollution control, Intergovernmental relations, Nitrogen dioxide, Ozone, Particulate matter, Volatile organic compounds.

Dated: August 24, 2007.
Richard C. Karl,
Acting Regional Administrator, Region 5.

Part 52, chapter I, title 40 of the Code of Federal Regulations is amended as follows:

PART 52—[AMENDED]

1. The authority citation for part 52 continues to read as follows:

Authority: 42 U.S.C. 7401 et seq.

Subpart KK—Ohio

2. Section 52.1885 is amended by revising paragraph (ff)(2) to read as follows:

§ 52.1885 Control strategy: Ozone.

* * * * *

(ff) * * *

(2) Belmont County, as submitted on June 20, 2006, and supplemented on August 24, 2006, and December 4, 2006. The maintenance plan establishes 2009 MVEBs for Belmont County of 2.60 tpd of VOC and 4.69 tpd of NOX, and 2018 MVEBs of 1.52 tpd of VOCs and 1.91 tpd of NOX.

* * * * *

[FR Doc. E7-17627 Filed 9-7-07; 8:45 am]

BILLING CODE 6560-50-P